DEPARTMENT OF HEALTH AND HUMAN SERVICES

Health Resources and Services Administration

National Vaccine Injury Compensation Program List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2025, through March 31, 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Thomas J. Engels,
Administrator.

List of Petitions Filed

1. Daniella Lewis, Long Grove, Illinois, Court of Federal Claims No: 25-0364V

2. Emily Hernandez, Crystal Lake, Illinois, Court of Federal Claims No: 25-0365V

3. Frances Posner, East Northport, New York, Court of Federal Claims No: 25-0366V

4. Jeannette Cardona, Chicago, Illinois, Court of Federal Claims No: 25-0368V

5. Ernest King, Jr., Boston, Massachusetts, Court of Federal Claims No: 25-0371V

6. Tamikia Scott, Boston, Massachusetts, Court of Federal Claims No: 25-0372V

7. Gail Hess, Summerville, South Carolina, Court of Federal Claims No: 25-0373V

8. Lee Morgan, Jr., Boston, Massachusetts, Court of Federal Claims No: 25-0374V

9. Leslie Brinkman Greer, Tyler, Texas, Court of Federal Claims No: 25-0375V

10. Geoffrey Luiz, Boston, Massachusetts, Court of Federal Claims No: 25-0376V

11. Donald Wilkinson, Zachary, Louisiana, Court of Federal Claims No: 25-0377V

12. Kenneth Hendree, Boston, Massachusetts, Court of Federal Claims No: 25-0378V

13. Milton Sherfy, Washington, Missouri, Court of Federal Claims No: 25-0381V

14. Linda Whetstone, Boston, Massachusetts, Court of Federal Claims No: 25-0382V

15. Patricia Ann Justus, Boston, Massachusetts, Court of Federal Claims No: 25-0385V

16. Adria Paschal, Boston, Massachusetts, Court of Federal Claims No: 25-0386V

17. Yaritza Berrios, Boston, Massachusetts, Court of Federal Claims No: 25-0387V

18. Robert Brinson, Boston, Massachusetts, Court of Federal Claims No: 25-0388V

19. Jennifer Carlstrom, Kailua-Kona, Hawaii, Court of Federal Claims No: 25-0389V

20. Alma Duff, Boston, Massachusetts, Court of Federal Claims No: 25-0390V

21. Angie Layne Ciccarello, Boston, Massachusetts, Court of Federal Claims No: 25-0391V

22. Michael Pratt, Boston, Massachusetts, Court of Federal Claims No: 25-0392V

23. Adam Pitler, Boston, Massachusetts, Court of Federal Claims No: 25-0393V

24. Peter Clancy, Boston, Massachusetts, Court of Federal Claims No: 25-0394V

25. Daniel Boits, Boston, Massachusetts, Court of Federal Claims No: 25-0395V

26. Albert Brinson, Boston, Massachusetts, Court of Federal Claims No: 25-0396V

27. Doneatta Godinez, Boston, Massachusetts, Court of Federal Claims No: 25-0397V

28. Chintu Patel, Dorchester, Massachusetts, Court of Federal Claims No: 25-0398V

29. Jessica Bousquet on behalf of C. R., Boston, Massachusetts, Court of Federal Claims No: 25-0399V

30. Himanshu Patel, Boston, Massachusetts, Court of Federal Claims No: 25-0400V

31. Alexis Maltz, Boston, Massachusetts, Court of Federal Claims No: 25-0401V

32. Brenda Pisciotta, Boston, Massachusetts, Court of Federal Claims No: 25-0402V

33. Brandon Robinson, Ocala, Florida, Court of Federal Claims No: 25-0403V

34. James Johansen, Boston, Massachusetts, Court of Federal Claims No: 25-0404V

35. Yidinekachew Dagne on behalf of S. D., Boston, Massachusetts, Court of Federal Claims No: 25-0405V

36. Cedric Scurlark, Boston, Massachusetts, Court of Federal Claims No: 25-0406V

37. Charles Norburn, Boston, Massachusetts, Court of Federal Claims No: 25-0407V

38. Tonia Frampton, Mandeville, Louisiana, Court of Federal Claims No: 25-0408V

39. Catherine Gallo, South Pasadena, Florida, Court of Federal Claims No: 25-0409V

40. Robert Hewlett, Boston, Massachusetts, Court of Federal Claims No: 25-0410V

41. John Marshall, Boston, Massachusetts, Court of Federal Claims No: 25-0411V

42. Leslie Fein, Conshohocken, Pennsylvania, Court of Federal Claims No: 25-0412V

43. Tracey Bates, Boston, Massachusetts, Court of Federal Claims No: 25-0413V

44. Katherine Norwalt, Boston, Massachusetts, Court of Federal Claims No: 25-0414V

45. Ryan Medeiros, Boston, Massachusetts, Court of Federal Claims No: 25-0415V

46. Michelle Ripoll, Boston, Massachusetts, Court of Federal Claims No: 25-0416V

47. Allea Scifo, Boston, Massachusetts, Court of Federal Claims No: 25-0417V

48. Marcy Tavano, Kingston, Massachusetts, Court of Federal Claims No: 25-0418V

49. Frederick Tobia, Boston, Massachusetts, Court of Federal Claims No: 25-0419V

50. Deizy Yamile Sepulveda Muneton, Boston, Massachusetts, Court of Federal Claims No: 25-0420V

51. Tracie Van Den Eng, Boston, Massachusetts, Court of Federal Claims No: 25-0421V

52. Kelly Schwenkmeyer, Boston, Massachusetts, Court of Federal Claims No: 25-0422V

53. Wendy Makatche, Boston, Massachusetts, Court of Federal Claims No: 25-0423V

54. Lisa Metivier, Boston, Massachusetts, Court of Federal Claims No: 25-0424V

55. Jamaree J. Dills, Boscobel, Wisconsin, Court of Federal Claims No: 25-0429V

56. Lisa Hensley, Springfield, Illinois, Court of Federal Claims No: 25-0430V

57. Kim Herb, Dover, Pennsylvania, Court of Federal Claims No: 25-0433V

58. Mary Brown, Barnhart, Montana, Court of Federal Claims No: 25-0434V

59. Melissa Oliva, Gaithersburg, Maryland, Court of Federal Claims No: 25-0435V

60. Joseph Mitchell, Indian Island, Maine, Court of Federal Claims No: 25-0437V

61. Alexia Clusiau, Dresher, Pennsylvania, Court of Federal Claims No: 25-0438V

62. Bradley Tooley, Swansea, Illinois, Court of Federal Claims No: 25-0439V

63. Marla Richter, Boca Raton, Florida, Court of Federal Claims No: 25-0441V

64. Annie Akers, Fayetteville, North Carolina, Court of Federal Claims No: 25-0442V

65. Amy Rose Falzon, Denver, Colorado, Court of Federal Claims No: 25-0443V

66. Roberta Fox-Mable, Pasadena, California, Court of Federal Claims No: 25-0445V

67. Kabir Kang, Culver City, California, Court of Federal Claims No: 25-0446V

68. Jason Koh, Long Island City, New York, Court of Federal Claims No: 25-0447V

69. Danielle Mercier and Thyery Mercier on behalf of T. M., Valley Stream, New York, Court of Federal Claims No: 25-0448V

70. Kristy Sheffler, Wilmington, Delaware, Court of Federal Claims No: 25-0449V

71. Leslie Graham, Chicago, Illinois, Court of Federal Claims No: 25-0451V

72. Angel Suarez, New York, New York, Court of Federal Claims No: 25-0452V

73. Courtney M. Ritter, Burien, Washington, Court of Federal Claims No: 25-0454V

74. Jennifer Perrius, Warrenton, Virginia, Court of Federal Claims No: 25-0456V

75. Devonne Cowan, Georgetown, Kentucky, Court of Federal Claims No: 25-0457V

76. Kerry Hall, Boston, Massachusetts, Court of Federal Claims No: 25-0458V

77. Frederick Woodard, Belle Vernon, Pennsylvania, Court of Federal Claims No: 25-0459V

78. Blake Barnes and Kristina Barnes on behalf of G. B., Ashland, Kentucky, Court of Federal Claims No: 25-0460V

79. Cathaleen Vanek, Gilbert, Arizona, Court of Federal Claims No: 25-0461V

80. Emma Rogers, Cedar Knolls, New Jersey, Court of Federal Claims No: 25-0462V

81. Philip Crowley, Columbia, South Carolina, Court of Federal Claims No: 25-0464V

82. John Garland and Shannon Land on behalf of Estate of Johnny Scott Garland, Deceased, Louisa, Virginia, Court of Federal Claims No: 25-0465V

83. Kathleen A. Hamil, Mililani, Hawaii, Court of Federal Claims No: 25-0466V

84. Jerry Cook, Salisbury, North Carolina, Court of Federal Claims No: 25-0467V

85. Robert Musachio, Bethel, Connecticut, Court of Federal Claims No: 25-0468V

86. Joseph Gaddis, Kingston, New York, Court of Federal Claims No: 25-0470V

87. Michael J. Smith, Boscobel, Wisconsin, Court of Federal Claims No: 25-0471V

88. Samuel J. Petrosky, State College, Pennsylvania, Court of Federal Claims No: 25-0472V

89. Michael Determan, Brighton, Massachusetts, Court of Federal Claims No: 25-0473V

90. Chastity Teofilo, Los Angeles, California, Court of Federal Claims No: 25-0475V

91. Eric Conner, Boscobel, Wisconsin, Court of Federal Claims No: 25-0477V

92. James R. Lapoint, Cambridge, Massachusetts, Court of Federal Claims No: 25-0480V

93. Melissa Taylor, Niceville, Florida, Court of Federal Claims No: 25-0481V

94. Vaconda King-Cambor, Marietta, Georgia, Court of Federal Claims No: 25-0482V

95. Jerod Davidson on behalf of R. D., Roseville, California, Court of Federal Claims No: 25-0483V

96. Irina Baengueva, Jersey City, New Jersey, Court of Federal Claims No: 25-0485V

97. David Middlebrooks, Perry, Georgia, Court of Federal Claims No: 25-0493V

98. Melisa Juarez, New Haven, Connecticut, Court of Federal Claims No: 25-0494V

99. Barry Chalofsky, Princeton, New Jersey, Court of Federal Claims No: 25-0495V

100. Steven Edward Forst, Jr., Sanford, Florida, Court of Federal Claims No: 25-0496V

101. James Whaley, Simpsonville, South Carolina, Court of Federal Claims No: 25-0497V

102. David Tallarida, Philadelphia, Pennsylvania, Court of Federal Claims No: 25-0500V

103. Christy Warner, Kalamazoo, Michigan, Court of Federal Claims No: 25-0501V

104. Robin Dembeck, Seattle, Washington, Court of Federal Claims No: 25-0502V

105. Linda Lopez on behalf of M. L., Greenwood, South Carolina, Court of Federal Claims No: 25-0503V

106. Derrick Silvers, Chicago, Illinois, Court of Federal Claims No: 25-0504V

107. Avery Skillom, Boscobel, Wisconsin, Court of Federal Claims No: 25-0505V

108. Suzan Ricard, Barre, Vermont, Court of Federal Claims No: 25-0510V

109. Hilary Puchalski, San Diego, California, Court of Federal Claims No: 25-0512V

110. Kimberly Thomas, Lutherville, Maryland, Court of Federal Claims No: 25-0513V

111. Craig Smit, Colorado Springs, Colorado, Court of Federal Claims No: 25-0516V

112. Tracy Carey, Benton, Kentucky, Court of Federal Claims No: 25-0517V

113. Christine Stone, Fredericksburg, Virginia, Court of Federal Claims No: 25-0518V

114. Mary Kelley, Elkton, Maryland, Court of Federal Claims No: 25-0519V

115. Rose Ferguson, Townsend, Georgia, Court of Federal Claims No: 25-0520V

116. Bradley Hendrickson, Goose Creek, South Carolina, Court of Federal Claims No: 25-0521V

117. Jill Briggs, Marietta, Georgia, Court of Federal Claims No: 25-0524V

118. Christina Jorgenson, Madison, Wisconsin, Court of Federal Claims No: 25-0525V

119. Eswaran Subrahmanian, Washington, District of Columbia, Court of Federal Claims No: 25-0527V

120. Rhonda Jones, College Park, Georgia, Court of Federal Claims No: 25-0528V

121. Corie Ponders, Meridian, Idaho, Court of Federal Claims No: 25-0529V

122. Joseph DePietro, West Long Branch, New Jersey, Court of Federal Claims No: 25-0530V

123. Jesus Rafael Bello Romero, Wellington, Florida, Court of Federal Claims No: 25-0531V

124. Robert Brenay, Livonia, Michigan, Court of Federal Claims No: 25-0532V

125. Marina Granno, Salem, Oregon, Court of Federal Claims No: 25-0534V

126. Lincoln Pierce, Secaucus, New Jersey, Court of Federal Claims No: 25-0535V

127. Jensen Harry, Aurora, Colorado, Court of Federal Claims No: 25-0540V

128. Robert Abele, Pleasantville, New Jersey, Court of Federal Claims No: 25-0541V

129. Pamela Schultz, Kalamazoo, Michigan, Court of Federal Claims No: 25-0542V

130. Julie Sondhi, Parsippany, New Jersey, Court of Federal Claims No: 25-0543V

131. Cosmeka Moore Jackson, Machesney Park, Illinois, Court of Federal Claims No: 25-0545V

132. Kenneth Shirley, Belmont, North Carolina, Court of Federal Claims No: 25-0551V

133. Tanya Middlebrook, Los Angeles, California, Court of Federal Claims No: 25-0553V

134. Shanile Lyle, Orange, New Jersey, Court of Federal Claims No: 25-0554V

135. Donnie Yinger, Woodstock, New York, Court of Federal Claims No: 25-0555V

136. David Muollo, Gainesville, Virginia, Court of Federal Claims No: 25-0558V

137. LaShawn Washington, Carlisle, Pennsylvania, Court of Federal Claims No: 25-0559V

138. Emzari Khizanishvili, Woodridge, Illinois, Court of Federal Claims No: 25-0560V

139. Frank Mosley, III, Boscobel, Wisconsin, Court of Federal Claims No: 25-0561V

140. Linda Winters, Henderson, Tennessee, Court of Federal Claims No: 25-0562V

141. Hannah Leao, Austin, Texas, Court of Federal Claims No: 25-0563V

142. Sean Bordelon, Garland, Texas, Court of Federal Claims No: 25-0567V

[FR Doc. 2025-06781 Filed 4-18-25; 8:45 am]

BILLING CODE 4165-15-P